DEPARTMENT OF COMMERCE

International Trade Administration

[A-533-817, C-533-818, A-560-805, C-560-806, A-580-836, C-580-837]

Certain Cut-To-Length Carbon-Quality Steel Plate From India, Indonesia, and the Republic of Korea: Continuation of Antidumping and Countervailing Duty Orders

AGENCY: Import Administration, International Trade Administration, Department of Commerce.

SUMMARY: As a result of the determinations by the Department of Commerce (the “Department”) and the International Trade Commission (the “ITC”) that revocation of the antidumping duty (“AD”) orders on certain cut-to-length carbon-quality steel plate (“CTL Plate”) from India, Indonesia, and the Republic of Korea (“Korea”) would likely lead to continuation or recurrence of dumping, that revocation of the countervailing duty (“CVD”) orders on CTL Plate from India, Indonesia, and Korea would likely lead to the continuation or recurrence of a countervailable subsidy, and that revocation of these AD and CVD orders would likely lead to a continuation or recurrence of material injury to an industry in the United States, the Department is publishing this notice of continuation of these AD and CVD orders.

DATES: Effective Date: January 4, 2012.

FOR FURTHER INFORMATION CONTACT: Irene Darzenta Tzafolias (AD orders) or Eric Greynolds (CVD orders), AD/CVD Operations, Import Administration, International Trade Administration, U.S. Department of Commerce, 14th Street and Constitution Avenue NW., Washington, DC 20230; telephone: (202) 482-0922 and (202) 482-6071, respectively.

SUPPLEMENTARY INFORMATION:

Background

On November 1, 2010, the Department initiated and the ITC instituted sunset reviews of the AD and CVD orders on CTL Plate from India, Indonesia, Italy, Japan, and Korea, pursuant to sections 751(c) and 752 of the Tariff Act of 1930, as amended (the “Act”), respectively. See Initiation of Five-Year (“Sunset”) Review, 75 FR 67082 (November 1, 2010). As a result of its reviews, the Department found that revocation of the AD orders would likely lead to the continuation or recurrence of dumping and that revocation of the CVD orders would likely lead to continuation or recurrence of countervailable subsidization, and notified the ITC of the margins of dumping and the subsidy rates likely to prevail were the orders revoked. See Certain Cut-to-Length Carbon-Quality Steel Plate From India, Indonesia, Italy, Japan, and the Republic of Korea; Final Results of the Expedited Second Sunset Reviews of the Antidumping Duty Orders, 76 FR 12322 (March 7, 2011), and Certain Cut-to-Length Carbon-Quality Steel Plate From India, Indonesia, Italy, and the Republic of Korea: Final Results of Expedited Sunset Review, 76 FR 12702 (March 8, 2011).

On December 27, 2011, the ITC determined that revocation of the AD and CVD orders on CTL Plate from India, Indonesia, and Korea would likely lead to the continuation or recurrence of material injury within a reasonably foreseeable time. See Cut-To-Length Carbon-Quality Steel Plate From India, Indonesia, Italy, Japan, and Korea, 76 FR 80963 (December 27, 2011) and USITC Publication 4296 (December 2011), entitled Cut-to-Length Carbon-Quality Steel Plate From India, Indonesia, Italy, Japan, and the Republic of Korea (Inv. Nos. 701-TA-388-391 and 731-TA-817-821 (Second Review)).

Scope of the Orders

The merchandise subject to the AD and CVD orders is certain hot-rolled carbon-quality steel: (1) Universal mill plates (i.e., flat-rolled products rolled on four faces or in a closed box pass, of a width exceeding 150 mm but not exceeding 1250 mm, and of a nominal or actual thickness of not less than 4 mm, which are cut-to-length (not in coils) and without patterns in relief), of iron or non-alloy-quality steel; and (2) flat-rolled products, hot-rolled, of a nominal or actual thickness of 4.75 mm or more and of a width which exceeds 150 mm and measures at least twice the thickness, and which are cut-to-length (not in coils).

Steel products to be included in the scope are of rectangular, square, circular or other shape and of rectangular or non-rectangular cross-section where such non-rectangular cross-section is achieved subsequent to the rolling process (i.e., products which have been “worked after rolling”)—for example, products which have been beveled or rounded at the edges. Steel products that meet the noted physical characteristics that are painted, varnished or coated with plastic or other non-metallic substances are included within the scope. Also, specifically included in the scope are high strength, low alloy (“HSLA”) steels. HSLA steels are recognized as steels with micro-alloying levels of elements such as chromium, copper, niobium, titanium, vanadium, and molybdenum.

Steel products to be included in the scope, regardless of Harmonized Tariff Schedule of the United States (“HTSUS”) definitions, are products in which: (1) Iron predominates, by weight, over each of the other contained elements, (2) the carbon content is two percent or less, by weight, and (3) none of the elements listed below is equal to or exceeds the quantity, by weight, respectively indicated: 1.80 percent of manganese, or 1.50 percent of silicon, or 1.00 percent of copper, or 0.50 percent of aluminum, or 1.25 percent of chromium, or 0.30 percent of cobalt, or 0.40 percent of lead, or 1.25 percent of nickel, or 0.30 percent of tungsten, or 0.10 percent of molybdenum, or 0.10 percent of niobium, or 0.41 percent of titanium, or 0.15 percent of vanadium, or 0.15 percent zirconium. All products that meet the written physical description, and in which the chemistry quantities do not equal or exceed any one of the levels listed above, are within the scope unless otherwise specifically excluded. The following products are specifically excluded from the orders: (1) Products clad, plated, or coated with metal, whether or not painted, varnished or coated with plastic or other non-metallic substances; (2) SAE grades (formerly AISI grades) of series 2300 and above; (3) products made to ASTM A710 and A736 or their proprietary equivalents; (4) abrasion-resistant steels (i.e., USS AR 400, USS AR 500); (5) products made to ASTM A202, A225, A514 grade S, A517 grade S, or their proprietary equivalents; (6) ball bearing steels; (7) tool steels; and (8) silicon manganese steel or silicon electric steel. The merchandise subject to the orders is currently classifiable in the HTSUS under subheadings: 7208.40.3030, 7208.40.3060, 7208.51.0030, 7208.51.0045, 7208.51.0060, 7208.52.0000, 7208.53.0000, 7208.90.0000, 7210.70.3000, 7210.90.9000, 7211.13.0000, 7211.14.0030, 7211.14.0045, 7211.90.0000, 7212.40.1000, 7212.40.5000, 7212.50.0000, 7225.40.3050, 7225.40.7000, 7225.50.6000, 7225.99.0090, 7226.91.5000, 7226.91.7000, 7226.91.8000, 7226.99.0000.

Although the HTSUS subheadings are provided for convenience and customs purposes, the written description of the merchandise subject to the orders is dispositive.

Determination

As a result of the determinations by the Department and the ITC that revocation of these AD and CVD orders would likely lead to continuation or recurrence of dumping or a countervailable subsidy, and of material injury to an industry in the United States, pursuant to section 751(d)(2) of the Act, the Department hereby orders the continuation of the AD and CVD orders on CTL Plate from India, Indonesia, and Korea. U.S. Customs and Border Protection will continue to collect cash deposits at the rates in effect at the time of entry for all imports of subject merchandise. The effective date of the continuation of these orders is the date of publication in the Federal Register of this Notice of Continuation.

Pursuant to sections 751(c)(2) and 751(c)(6) of the Act, the Department intends to initiate the next five-year review of these orders not later than 30 days prior to the fifth anniversary of the effective date of continuation.

These five-year (sunset) reviews and notice are in accordance with section 751(c) of the Act and published pursuant to section 777(i)(1) of the Act.

Dated: December 27, 2011.
Susan Kuhbach,
Acting Assistant Secretary for Import Administration.

[FR Doc. 2011-33767 Filed 1-3-12; 8:45 am]

BILLING CODE 3510-DS-P